DEPARTMENT OF ENERGY

Federal Energy Regulatory Commission

[Docket Nos. RP96-129-014 and RP91-54-014]

Trunkline Gas Company; Notice of Compliance Filing

May 7, 2001.

Take notice that on April 23, 2001, Trunkline Gas Company (Trunkline) tendered for filing as part of its FERC Gas Tariff, First Revised Volume No. 1, the tariff sheets listed in Appendix A to the filing, to become effective May 1, 2001.

Trunkline states that this filing is being filed to implement the terms of the January 29, 2001 Stipulation and Agreement in Docket No. RP96-129-000 and RP91-54-000 (Not Consolidated) (Settlement). The Settlement has been approved by the Commission's Order Approving Settlement issued April 12, 2001.¹

¹ 95 FERC ¶ 61,049 (2001).

Trunkline states that copies of the filing are being served on all jurisdictional customers, interested state regulatory agencies and parties to this proceeding.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www/ferc/fed/us/online/rims. htm (call 202-208-2222 for assistance). Comments, protests and interventions may be filed electronically via the internet in lieu of paper. See, 18 CFR 385.2001(a)(1)(iii) and the instructions on the Commission's web site at http://www/ferc/fed/us/efi/doorbell.htm.

David P. Boergers,
Secretary.

[FR Doc. 01-11892 Filed 5-10-01; 8:45 am]

BILLING CODE 6717-01-M